DEPARTMENT OF TRANSPORTATION

Federal Aviation Administration

14 CFR Part 39

[Docket No. FAA-2024-2670; Project Identifier MCAI-2024-00736-R; Amendment 39-22916; AD 2024-25-51]

RIN 2120-AA64

Airworthiness Directives; Airbus Helicopters Deutschland GmbH Helicopters

AGENCY: Federal Aviation Administration (FAA), DOT.

ACTION: Final rule; request for comments.

SUMMARY: The FAA is adopting a new airworthiness directive (AD) for all Airbus Helicopters Deutschland GmbH Model MBB-BK 117 C-2 helicopters. The FAA previously sent this AD as an emergency AD to all known U.S. owners and operators of these helicopters. This AD was prompted by a report of vibrations of the yaw axis during a hover taxi. This AD requires repetitively inspecting the bolted joint between the cardan-pivot joint assembly and the tail rotor actuator piston rod and, depending on the results, taking corrective action. This AD also prohibits installing certain tail rotor actuators unless its requirements are met. These actions are specified in a European Union Aviation Safety Agency (EASA) AD, which is incorporated by reference. The FAA is issuing this AD to address the unsafe condition on these products.

DATES: This AD is effective January 17, 2025. Emergency AD 2024-25-51, issued on December 12, 2024, which contains the requirements of this amendment, was effective with actual notice.

The Director of the Federal Register approved the incorporation by reference of a certain publication listed in this AD as of January 17, 2025.

The FAA must receive comments on this AD by February 18, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2670; or in person at Docket Operations between 9 a.m. and 5 p.m., Monday through Friday, except Federal holidays. The AD docket contains this final rule, the mandatory continuing airworthiness information (MCAI), any comments received, and other information. The street address for Docket Operations is listed above.

Material Incorporated by Reference:

• For EASA material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2024-2670.

FOR FURTHER INFORMATION CONTACT: Tara Lucas, Aviation Safety Engineer, FAA, 1600 Stewart Avenue, Suite 410, Westbury, NY 11590; phone: (206) 231-3189; email: Tara.Lucas@faa.gov.

SUPPLEMENTARY INFORMATION:

Comments Invited

The FAA invites you to send any written data, views, or arguments about this final rule. Send your comments to an address listed under the ADDRESSES section. Include “Docket No. FAA-2024-2670; Project Identifier MCAI-2024-00736-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Tara Lucas, Aviation Safety Engineer, FAA, 1600 Stewart Avenue, Suite 410, Westbury, NY 11590; phone: (206) 231-3189; email: Tara.Lucas@faa.gov. Any commentary that the FAA receives that is not specifically designated as CBI will be placed in the public docket for this rulemaking.

Background

The FAA issued Emergency AD 2024-25-51, dated December 12, 2024 (the emergency AD), to address an unsafe condition on Airbus Helicopters Deutschland GmbH Model MBB-BK 117 C-2 helicopters. The FAA sent the emergency AD to all known U.S. owners and operators of these helicopters. For helicopters having tail rotor actuator part number (P/N) B673M40A1002 (manufacturer P/N 5038A0000-01) installed, the emergency AD requires repetitively inspecting the bolted joint between the cardan-pivot joint assembly and the tail rotor actuator piston rod and, depending on the results, taking corrective action. The emergency AD also prohibits installing this part-numbered tail rotor actuator on any helicopter unless it is new, or the inspection is done.

The emergency AD was prompted by Emergency AD 2024-0237-E, dated December 9, 2024 (EASA Emergency AD 2024-0237-E) (also referred to as the MCAI), issued by EASA, which is the Technical Agent for the Member States of the European Union, to correct an unsafe condition on all Airbus Helicopters Deutschland GmbH Model MBB-BK117 C-2 helicopters. The MCAI states a bolt on the tail rotor actuator that connects the cardan-pivot joint assembly with the tail rotor actuator piston rod was found worn and broken during a subsequent inspection. EASA considers the MCAI an interim action.

The FAA is issuing this AD to detect a worn tail rotor actuator bolt. This condition, if not addressed, could result in failure of a tail rotor actuator bolt, loss of tail rotor control, and subsequent loss of control of the helicopter.

You may examine the MCAI in the AD docket at regulations.gov under Docket No. FAA-2024-2670.

Material Incorporated by Reference Under 1 CFR Part 51

The FAA reviewed EASA Emergency AD 2024-0237-E, which requires, for helicopters having tail rotor actuator P/N B673M40A1002 (manufacturer P/N 5038A0000-01) installed, repetitively inspecting the bolted joint between the cardan-pivot joint assembly and the tail rotor actuator piston rod. Depending on the results, EASA Emergency AD 2024-0237-E requires contacting AH [Airbus Helicopters] to obtain applicable repair instructions and accomplishing those instructions within the compliance time specified within. EASA Emergency AD 2024-0237-E also prohibits installing this part-numbered tail rotor actuator on any helicopter unless its requirements are met.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI described above. The FAA is issuing this AD after determining that the unsafe condition described previously is likely to exist or develop on other products of the same type design.

AD Requirements

This AD requires accomplishing the actions specified in EASA Emergency AD 2024-0237-E described previously, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA Emergency AD 2024-0237-E is incorporated by reference in this AD. This AD requires compliance with EASA Emergency AD 2024-0237-E in its entirety through that incorporation, except for any differences identified as exceptions in the regulatory text of this AD. Using common terms that are the same as the heading of a particular section in EASA Emergency AD 2024-0237-E does not mean that operators need comply only with that section. For example, where the AD requirement refers to “all required actions and compliance times,” compliance with this AD requirement is not limited to the section titled “Required Action(s) and Compliance Time(s)” in EASA Emergency AD 2024-0237-E. Material required by EASA Emergency AD 2024-0237-E for compliance will be available at regulations.gov under Docket No. FAA-2024-2670 after this AD is published.

Interim Action

The FAA considers that this AD is an interim action. If final action is later identified, the FAA might consider further rulemaking then.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of the emergency AD to all known U.S. owners and operators of these helicopters. The FAA found that the risk to the flying public justified waiving notice and comment prior to adoption of this rule because a tail rotor actuator is part of an assembly that is critical to the control of a helicopter. Failure of this part could result in an emergency condition on these helicopters, which primarily conduct air ambulance and military operations. Additionally, the FAA has no information pertaining to the extent of wear in the tail rotor actuator bolts that may currently exist in helicopters or how quickly the condition may propagate to failure, therefore, the initial actions required by this AD must be accomplished before next flight. These conditions still exist, therefore, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 156 helicopters of U.S. registry.

The FAA estimates the following costs to comply with this AD:

Estimated Costs of Required Actions
Action | Labor cost | Parts cost | Cost per product | Cost on U.S. operators
Inspecting the tail rotor actuator | 2 work-hours × $85 per work-hour = $170 (per inspection cycle) | $0 | $170 (per inspection cycle) | $26,520 (per inspection cycle).

Corrective actions that may be required depending on the results of an inspection could vary from helicopter to helicopter. The FAA has no data to determine the costs to accomplish these corrective actions. The FAA estimates the following costs to do any necessary replacement that may be done.

On-Condition Costs
Action | Labor cost | Parts cost | Cost per product
Replacing the tail rotor actuator | 1 work-hour × $85 per work-hour = $85 | $71,933 | $72,018

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-25-51 Airbus Helicopters Deutschland GmbH: Amendment 39-22916; Docket No. FAA-2024-2670; Project Identifier MCAI-2024-00736-R.

(a) Effective Date

The FAA issued Emergency Airworthiness Directive (AD) 2024-25-51 on December 12, 2024 (the emergency AD), directly to affected owners and operators. As a result of such actual notice, the emergency AD was effective for those owners and operators on the date it was provided. This AD contains the same requirements as the emergency AD and, for those who did not receive actual notice, is effective on January 17, 2025.

(b) Affected ADs

None.

(c) Applicability

This AD applies to Airbus Helicopters Deutschland GmbH Model MBB-BK 117 C-2 helicopters, certificated in any category.

Note 1 to paragraph (c): Helicopters with an MBB-BK 117 C-2e designation are Model MBB-BK 117 C-2 helicopters.

(d) Subject

Joint Aircraft System Component (JASC) Code 6700, Rotorcraft Flight Control.

(e) Unsafe Condition

This AD was prompted by a report of vibrations of the yaw axis during a hover taxi. The FAA is issuing this AD to detect a worn tail rotor actuator bolt. The unsafe condition, if not addressed, could result in failure of a tail rotor actuator bolt, loss of tail rotor control, and subsequent loss of control of the helicopter.

(f) Compliance

Comply with this AD within the compliance times specified, unless already done.

(g) Requirements

Except as specified in paragraphs (h) and (i) of this AD: Comply with all required actions and compliance times specified in, and in accordance with, European Union Aviation Safety Agency Emergency AD 2024-0237-E, dated December 9, 2024 (EASA Emergency AD 2024-0237-E).

(h) Exceptions to EASA Emergency AD 2024-0237-E

(1) Where EASA Emergency AD 2024-0237-E requires compliance in terms of flight hours, this AD requires using hours time-in-service.

(2) Where EASA Emergency AD 2024-0237-E refers to its effective date, this AD requires using the effective date of this AD.

(3) Where the material referenced in paragraph (1) of EASA Emergency AD 2024-0237-E states to “use a suitable pen,” this AD requires replacing that text with “use a permanent marker.”

(4) Where paragraph (3) of EASA Emergency AD 2024-0237-E states “discrepancy,” for the purpose of this AD, a “discrepancy” is defined as the lines on the piston rod and the bolt do not stay aligned to each other while rotating the tail rotor actuator, or the line is not aligned on the piston rod, the cardan-pivot joint assembly, the lever assembly, and the bolt after connecting the tail rotor actuator upper control rod and the bellcrank.

(5) Where paragraph (3) of EASA Emergency AD 2024-0237-E states to “contact AH for applicable repair instructions and, within the compliance time specified in those instructions, accomplish those instructions accordingly,” this AD requires replacing that text with “accomplish corrective action in accordance with a method approved by the Manager, International Validation Branch, FAA; or EASA; or Airbus Helicopters Deutschland GmbH's EASA Design Organization Approval (DOA). If approved by the DOA, the approval must include the DOA-authorized signature.”

(6) Where paragraphs (4) and (5) of EASA Emergency AD 2024-0237-E specify accomplishing corrective actions, this AD requires accomplishing corrective actions in accordance with a method approved by the Manager, International Validation Branch, FAA; or EASA; or Airbus Helicopters Deutschland GmbH's EASA DOA. If approved by the DOA, the approval must include the DOA-authorized signature.

(7) This AD does not adopt the “Remarks” section of EASA Emergency AD 2024-0237-E.

(i) No Reporting Requirement

Although the material referenced in EASA Emergency AD 2024-0237-E specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Tara Lucas, Aviation Safety Engineer, FAA, 1600 Stewart Avenue, Suite 410, Westbury, NY 11590; phone: (206) 231-3189; email: Tara.Lucas@faa.gov.

(l) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) Emergency AD 2024-0237-E, dated December 9, 2024.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 17, 2024.
Victor Wicklund,
Deputy Director, Compliance & Airworthiness Division, Aircraft Certification Service.

[FR Doc. 2024-31500 Filed 12-30-24; 8:45 am]

BILLING CODE 4910-13-P